ENVIRONMENTAL PROTECTION AGENCY

[FRL-9956-49-Region 6]

Notice of Proposed Administrative Settlement Pursuant to the Comprehensive Environmental Response, Compensation, and Liability Act

AGENCY: Environmental Protection Agency (EPA).

ACTION: Notice; request for public comment.

SUMMARY: The Environmental Protection Agency is giving notice of two proposed administrative settlements concerning the Scrub-A-Dubb Barrel Company Superfund Site, located in the City of Lubbock, Lubbock County, Texas.

DATES: Comments must be submitted on or before January 17, 2017.

ADDRESSES: The proposed settlements and additional background information relating to the settlements are available for public inspection at 1445 Ross Avenue, Dallas, Texas 75202-2733. Copies of the proposed settlements may be obtained from Robert Werner, Enforcement Officer, 1445 Ross Avenue, Dallas, Texas 75202-2733 or by calling (214) 665-6724. Comments should reference the Scrub-A-Dubb Barrel Company Superfund Site, located in the City of Lubbock, Lubbock County, Texas and EPA CERCLA Docket Number 06-09-16 for the Enterprise Products BBCT LLC settlement and EPA CERCLA Docket Number 06-10-16 for the Foster Testing, Inc. settlement and should be addressed to Robert Werner, Enforcement Officer, at the address listed above.

FOR FURTHER INFORMATION CONTACT: Amy Salinas, Attorney, 1445 Ross Avenue, Dallas, Texas 75202-2733 or call (214) 665-8063.

SUPPLEMENTARY INFORMATION: In accordance with Section 122(h) of the Comprehensive Environmental Response, Compensation, and Liability Act, as amended (CERCLA), 42 U.S.C. 9622(h)(1), notice is hereby given of two proposed administrative settlements concerning the Scrub-A-Dubb Barrel Company Superfund Site, located in the City of Lubbock, Lubbock County, Texas.

The settlements require two settling parties, Enterprise Products BBCT, LLC, and Foster Testing, Inc., to pay a total of $147,800.00 as payment of response costs to the Hazardous Substances Superfund. The settlements include a covenant not to sue pursuant to Section 107 of CERCLA, 42, U.S.C. 9607.

For thirty (30) days beginning the date of publication of this notice, the Agency will receive written comments relating to this notice and will receive written comments relating to the settlement. The Agency will consider all comments received and may modify or withdraw its consent to the settlement if comments received disclose facts or considerations which indicate that the settlement is inappropriate, improper, or inadequate. The Agency's response to any comments received will be available for public inspection at 1445 Ross Avenue, Dallas, Texas 75202-2733.

Dated: November 24, 2016.
Ron Curry,
Regional Administrator (6RA).

[FR Doc. 2016-29886 Filed 12-14-16; 8:45 am]

BILLING CODE 6560-50-P